DEPARTMENT OF TRANSPORTATION

Federal Railroad Administration

[Docket Number FRA-2003-16265]

Petition for Waiver of Compliance

In accordance with Part 211 of Title 49 Code of Federal Regulations (CFR), this document provides the public notice that by a document dated August 1, 2013, the Long Island Rail Road (LIRR) has petitioned the Federal Railroad Administration (FRA) for a waiver of compliance from certain provisions of the Federal railroad safety regulations contained at 49 CFR 229.81, Emergency Pole; shoe insulation. FRA assigned the petition Docket Number FRA-2003-16265.

Title 49 CFR 229.81(b) requires that each locomotive equipped with third rail shoes shall have a device for insulating the current collecting apparatus from the third rail. LIRR previously had in place a waiver related to third rail insulating devices called for in 49 CFR 229.81. This waiver was renewed on March 30, 2004. Due to an oversight on the part of LIRR, renewal of this waiver was not requested in a timely manner and is now being sought. The rationale for this waiver, originally granted in 1981, and subsequently extended and expanded to newer fleets of equipment, is that LIRR's existing procedures and infrastructure provide a greater degree of safety than the devices required in this rule. Removing third rail power from rolling stock equipped with contact shoes by means of such devices would require placement of at least two devices per DMU locomotive, four devices per pair of multiple-unit (MU) cars, and 24 devices for a 12-car MU train. Each of these would be placed separately in proximity to the 750-volt third rail under whatever lighting and weather conditions prevailed. This would be both a time consuming and potentially hazardous means to remove power from the equipment.

LIRR requests instead to continue to use the guidance of LIRR-290 (formerly known as CT-290) wherein requests for removal of power are made by radio or telephone to the Engineering System Operator (ESO). Detailed third-rail plans are maintained by the ESO, train dispatchers, and block operators, along with records of requests for removal of third-rail power, which include name, title, location, and reason for removal of power. Only the person who requested the removal of power, or someone to whom they have transferred that authority, can request restoration of power. This process provides safeguards against accidental restoration of power that could occur with the slippage or inadvertent removal of any of the insulating devices that the rule calls for; the process also allows for the safe and remote removal of power, away from the affected equipment. LIRR requests that FRA considers this waiver as having been in continuous effect since September 1, 1981.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 21, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC
Robert C. Lauby,
Deputy Associate Administrator for Regulatory and Legislative Operations.

[FR Doc. 2013-21697 Filed 9-5-13; 8:45 am]

BILLING CODE 4910-06-P